DEPARTMENT OF LABOR

Employment and Training Administration

[TA-W-50,892]

Mastercraft Fabrics, LLC, Morgantown, North Carolina; Notice of Termination of Investigation

Pursuant to section 221 of the Trade Act of 1974, as amended, an investigation was initiated on February 13, 2003 in response to a worker petition filed by a company official on behalf of workers at Mastercraft Fabrics, LLC, Morgantown, North Carolina.

The petitioners have requested that the petition be withdrawn. Consequently, the investigation has been terminated.

Signed at Washington, DC, this 10th day of March 2003.
Richard Church,
Certifying Officer, Division of Trade Adjustment Assistance.

[FR Doc. 03-7910 Filed 4-1-03; 8:45 am]

BILLING CODE 4510-30-U